DEPARTMENT OF THE INTERIOR

Bureau of Reclamation

Development of a Groundwater Replenishment System

AGENCY: Bureau of Reclamation, Interior.

ACTION: Notice of availability of a Final Environmental Impact Report/Environmental Impact Statement (FEIR/EIS) FES 00-10.

SUMMARY: Pursuant to the National Environmental Policy Act (NEPA) of 1969, as amended, the Bureau of Reclamation (Reclamation), Orange County Water District, and Orange County Sanitation District have prepared a FEIR/EIS on potential impacts from the development of a Groundwater Replenishment System in Orange County, California. Reclamation's involvement stems from the possibility of the agency funding some of the project.

ADDRESSES: Copies of the FEIR/EIS are available for public inspection and review at the following locations:

Bureau of Reclamation, Program Analysis Office, Room 7456, 1849 C Street, NW., Washington, DC 20240; telephone: (202) 208-4662.

Bureau of Reclamation, Denver Office Library, Building 67, Room 167, Denver Federal Center, 6th and Kipling, Denver, CO 80225; telephone: (303)236-6963.

Bureau of Reclamation, Lower Colorado Region, P.O. Box 61470, Boulder City, NV 89006-1470: telephone: (702) 293-8698.

Orange County Water District, P.O. Box 8300, Fountain Valley, CA; telephone: (714) 378-3200.

FOR FURTHER INFORMATION CONTACT: Mr. Del Kidd, Bureau of Reclamation, Lower Colorado Region, P.O. Box 61470, Boulder City, NV 89006-1470, telephone: (702) 293-8698, or Ms. Debbie Burris, Orange County Water District, P.O. Box 8300, Fountain Valley, CA 92728-8300; telephone (714) 378-3200 ext. 4423.

SUPPLEMENTARY INFORMATION: The Groundwater Replenishment System is a proposal to take secondary, treated wastewater from the Orange County Sanitation District treatment plant in Fountain Valley, California, and further process this water to drinking water standards. The processed water will be used for groundwater recharge, for injection into a seawater intrusion barrier, and for landscape irrigation and industrial process water. Otherwise, the water would be discharged into the Pacific Ocean. The Groundwater Replenishment System would supplement existing water supplies. The System would provide a new, cost-effective and reliable source of water to recharge the Orange County Groundwater Basin, protect the Basin from further degradation due to seawater intrusion, and augment the supply of reclaimed water for irrigation and industrial use.

Review of the Draft EIR/EIS led to some modifications of the proposed project. These modifications do not substantially change the nature and significance of impacts of the proposal, nor do they substantially change the construction disturbances or project operations. They do require that all (100%) of the secondary effluent treated by the Groundwater Replenishment System treatment facilities would be routed through the micro filtration and reverse osmosis filtration process. (Under the original proposal there was to be blending of some of the water.)

This additional processing will improve the water quality to beyond Environmental Protection Agency's Drinking Water Standards and the processed water will be better than any other water used for replenishment in the Orange County Groundwater Basin today. The comment on the Draft also lead the Districts to commit to study expansion of the injection well system. In addition, the Districts committed to conducting a risk assessment.

The Draft EIR/EIS was issued on December 3, 1998. Comments received from interested organizations and individuals on the Draft EIR/EIS were addressed in the Final EIR/EIS. No decision will be made on the proposal until 30 days after the release of the Final EIR/EIS. After the 30 day waiting period, Reclamation will complete a Record of Decision. This document will present the action that will be implemented and will discuss all factors leading to the decision.

Dated: March 7, 2000.
William J. Leibhauser,
Manager, Environmental Compliance and Realty Group.

[FR Doc. 00-7210 Filed 3-22-00; 8:45 am]

BILLING CODE 4310-94-P